NUCLEAR REGULATORY COMMISSION

[Docket Nos. 50-282 and 50-306; NRC-2010-0022]

License Nos. DPR-42 and DPR-60; Northern States Power Company; Prairie Island Nuclear Generating Plant, Units 1 and 2; Receipt of Request for Action Under 10 CFR 2.206

Notice is hereby given that by petition dated September 4, 2009, Mr. David Lee Sebastian (petitioner) has requested that the U.S. Nuclear Regulatory Commission (NRC) take action with regard to the licensee for the Prairie Island Nuclear Generating Plant, Units 1 and 2. The Prairie Island Nuclear Generating Plant is operated by Northern States Power Company, incorporated in Minnesota as a wholly owned subsidiary of Xcel Energy, Inc. (Xcel). The petitioner requests that the NRC:

(1) Order Xcel to cease and desist from its current arbitrary and capricious practices using the Access Authorization and Fitness for Duty (AA/FFD) Programs other than their intended created intent, as they are being applied against the petitioner.

(2) Order compliance with:

(A) The NRC's regulations under Section 73.56, “Personnel Access Authorization Requirements for Nuclear Power Plants,” of Title 10 of the Code of Federal Regulations (10 CFR 73.56);

(B) The rationale described in the final rule “Access Authorization Program for Nuclear Power Plants” (RIN 3150-AA90) published in the Federal Register on April 26, 1991 (56 FR 18997); and

(C) Nuclear Energy Institute's (NEI) implementation guidance in “Nuclear Power Plant Access Authorization Program” (NEI-03-01, Rev. 2).

(3) That the petitioner be granted access authorization without further delay to perform his accepted job tasks with all record of denial removed from any and all records wherever found.

(4) Issue any other Order, or grant any other relief, to which the petitioner may have shown himself entitled.

As the basis for the request, the petitioner states that Xcel is in violation of 10 CFR 73.56 in denying him access to the Prairie Island Nuclear Generating Plant using the AA/FFD program by basing the decision solely upon an existing tax lien. The petitioner states that Xcel failed to base the decision to grant or deny unescorted access authorization on a review and evaluation of all pertinent information. The petitioner states that Xcel failed to incorporate all three elements (i.e., background investigation, psychological assessment, and behavioral observation) of the unescorted access authorization program when making the decision to deny the petitioner unescorted access, contrary to the rationale for rule “Access Authorization Program for Nuclear Power Plants” (56 FR 18997).

The NRC is treating the petitioner's request pursuant to 10 CFR 2.206, “Requests for Action under This Subpart.” The request has been referred to the Director of the Office of Nuclear Reactor Regulation. As provided by Section 2.206, the NRC will take appropriate action on this petition within a reasonable time. A copy of the petition is available for inspection at the Commission's Public Document Room (PDR), located at One White Flint North, Public File Area O1 F21, 11555 Rockville Pike (first floor), Rockville, MD 20852. Publicly available records related to this action will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR reference staff by telephone at 1-800-397-4209 or 301-415-4737, or by e-mail to pdr.Resource@nrc.gov. The ADAMS accession number for the incoming petition request is ML093380574.

For the Nuclear Regulatory Commission.
Dated at Rockville, Maryland, this 15th day of January 2010.
Eric J. Leeds,
Director, Office of Nuclear Reactor Regulation.

[FR Doc. 2010-1309 Filed 1-22-10; 8:45 am]

BILLING CODE 7590-01-P